DEPARTMENT OF DEFENSE

GENERAL SERVICES ADMINISTRATION

NATIONAL AERONAUTICS AND SPACE ADMINISTRATION

[OMB Control No. 9000-0012]

Federal Acquisition Regulation; Information Collection; Termination Settlement Proposal Forms (Standard Forms 1435 through 1440)

AGENCIES: Department of Defense (DOD), General Services Administration (GSA), and National Aeronautics and Space Administration (NASA).

ACTION: Notice of request for public comments regarding an extension to an existing OMB clearance (9000-0012).

SUMMARY: Under the provisions of the Paperwork Reduction Act of 1995 (44 U.S.C. Chapter 35), the Federal Acquisition Regulation (FAR) Secretariat will be submitting to the Office of Management and Budget (OMB) a request to review and approve an extension of a currently approved information collection requirement concerning termination settlement proposal forms (Standard Forms 1435 through 1440). The clearance currently expires on June 30, 2004.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before May 3, 2004.

FOR FURTHER INFORMATION CONTACT: Jeritta Parnell, Acquisition Policy Division, GSA (202) 501-4082.

ADDRESSES: Submit comments regarding this burden estimate or any other aspect of this collection of information, including suggestions for reducing this burden to the General Services Administration, FAR Secretariat, 1800 F Street, NW., Room 4035, Washington, DC 20405. Please cite OMB Control Number 9000-0012, Termination Settlement Proposal (SF's 1435 through 1440), in all correspondence.

SUPPLEMENTARY INFORMATION:

A. Purpose

The termination settlement proposal forms (Standard Forms 1435 through 1440) provide a standardized format for listing essential cost and inventory information needed to support the terminated contractor's negotiation position. Submission of the information assures that a contractor will be fairly reimbursed upon settlement of the terminated contract.

B. Annual Reporting Burden

Respondents: 864.

Responses Per Respondent: 2.4.

Total Responses: 2,074.

Hours Per Response: 2.5.

Total Burden Hours: 5,185.

Obtaining Copies of Proposals: Requesters may obtain a copy of the information collection from the General Services Administration, FAR Secretariat (MVA), 1800 F Street, NW., Room 4035, Washington, DC 20405, telephone (202) 501-4755. Please cite OMB Control Number 9000-0012, Termination Settlement Proposal Forms (SF's 1435 through 1440), in all correspondence.

Dated: February 19, 2004.
Laura Auletta,
Director, Acquisition Policy Division.

[FR Doc. 04-4590 Filed 3-1-04; 8:45 am]

BILLING CODE 6820-EP-P